DEPARTMENT OF COMMERCE

National Telecommunications and Information Administration

Docket No. 060606155-6155-01

Privacy Act of 1974: Systems of Records

AGENCY: National Telecommunications and Information Administration, U.S. Department of Commerce

ACTION: Notice to delete a Privacy Act System of Records: COMMERCE/NTIA-1, “Radio Spectrum Management Career Development Program.”

SUMMARY: In accordance with the Privacy Act (5 U.S.C. § 552a(e)(4) and (11)), the Department of Commerce is issuing notice of its intent to delete the system of records entitled “Radio Spectrum Management Career Development Program.” This system of records is no longer collected or maintained by the National Telecommunications and Information Administration. There are no records remaining in the system.

DATES: To be considered, written comments must be submitted on or before July 20, 2006. Unless comments are received, the deletion of the system of records will become effective as proposed on the date of publication of a subsequent notice in the Federal Register.

ADDRESSES: Written comments may be mailed to Stacy Cheney, Attorney-Advisor, Office of the Chief Counsel, National Telecommunications and Information Administration, Room 4713, 14th Street and Constitution Avenue, NW., Washington, DC 20231. Paper submissions should include a 3 1/2 inch computer diskette in HTML, ASCII, Word, or WordPerfect format (please specify version). Diskettes should be labeled with the name and organization affiliation of the filer, and the name of the word processing program used to create the document. Comments may be submitted electronically to the following electronic mail address: sor-comments@ntia.doc.gov. Comments submitted via electronic mail also should be submitted in paper or diskette formats. Comments will be posted on NTIA's Web site at http://www.ntia.doc.gov/ntiahome/occ/sorcomments.

SUPPLEMENTARY INFORMATION: This Privacy Act System of Records is being deleted because the records are no longer collected or maintained by the National Telecommunications and Information Administration. There are no records remaining in the system.

Dated: June 14, 2006.
Brenda Dolan,
Departmental Freedom of Information and Privacy Act Officer.

[FR Doc. E6-9615 Filed 6-19-06; 8:45 am]

BILLING CODE 3510-60-S